DEPARTMENT OF HEALTH AND HUMAN SERVICES

Centers for Disease Control and Prevention

Final Effect of Designation of a Class of Employees for Addition to the Special Exposure Cohort

Correction

In notice document 06-7971 appearing on page 55477 in the issue of Friday, September 22, 2006, make the following correction:

On page 55477, in the first column, in the last paragraph, in the fourth line, “1947” should read “1948”.

[FR Doc. C6-7971 Filed 10-12-06; 8:45 am]

BILLING CODE 1505-01-D

DEPARTMENT OF JUSTICE

Drug Enforcement Administration

21 CFR Parts 1300, 1309, 1310, 1314

[Docket No. DEA-291I]

RIN 1117-AB05

Retail Sales of Scheduled Listed Chemical Products; Self-Certification of Regulated Sellers of Scheduled Listed Chemical Products

Correction

In rule document 06-8194 beginning on page 56008 in the issue of Tuesday, September 26, 2006, make the following correction:

On page 56014, in Table 3, the fifth row is corrected to read as follows:

Table 3.—Self-Certification Costs and Fee Calculation
Project detail | 2006 * | 2007 | 2008 | Total cost
* * * * * * *
Enhancements ⁵ |  |  | 90,861 | 90,861
* * * * * * *

[FR Doc. C6-8194 Filed 10-12-06; 8:45 am]

BILLING CODE 1505-01-D